DEPARTMENT OF ENERGY

Federal Energy Regulatory Commission

[Docket Nos. MG99-27-001, MG99-28-001, MG99-29-001 and MG99-30-001]

Panhandle Eastern Pipeline Company, Southwest Gas Storage Company, Trunkline Gas Company and Trunkline LNG Company; Notice of Filing

February 9, 2000.

Take notice that on January 21, 2000, Panhandle Eastern Pipeline Company, Trunkline Gas Company, Trunkline LNG Company and Southwest Gas Storage Company each filed revised standards of conduct in response to the Commission's December 22, 1999 order.¹

¹ 89 FERC ¶ 61,315 (1999).

Each company states that it has served copies of its filing to each of its affected customers and state commissions.

Any person desiring to be heard or to protest said filings should file a motion to intervene or a protest in each proceeding with the Federal Energy Regulatory Commission, 888 First Street, NE, Washington, DC 20426, in accordance with Rules 211 or 214 of the Commission's Rules of Practice and Procedure (18 CFR 385.211 or 385.214). All such motions to intervene or protest should be filed on or before February 24, 2000. Protests will be considered by the Commission in determining the appropriate action to be taken but will not serve to make protestants parties to the proceedings. Any person wishing to become a party must file a motion to intervene. Copies of these filings are on file with the Commission and are available for public inspection. This filing may be viewed on the web at http://www.ferc.fed.us/online/rims.htm (call (202) 208-2222 for assistance).

Linwood A. Watson, Jr.,
Acting Secretary.

[FR Doc. 00-3464 Filed 2-14-00; 8:45 am]

BILLING CODE 6717-01-M